DEPARTMENT OF ENERGY

Notice of Orders Issued Under Section 3 of the Natural Gas Act During April 2019

| FE Docket Nos.
COMANCHE TRAIL PIPELINE, LLC | 19-36-NG
DRIFTWOOD LNG LLC | 16-144-LNG
BLUE ROADS SOLUTIONS, LLC | 19-37-LNG
MARITIMES & NORTHEAST PIPELINE, L.L.C | 19-38-NG
EXCELERATE ENERGY GAS MARKETING, LIMITED PARTNERSHIP | 19-39-NG
EL PASO MARKETING COMPANY, L.L.C | 19-40-NG
OMIMEX CANADA, LTD | 19-48-NG
FERUS NATURAL GAS FUELS INC | 19-41-LNG
SOLENSA S.A. DE C.V | 19-42-LNG
DOMINION ENERGY FUEL SERVICES, INC | 19-49-NG

AGENCY: Office of Fossil Energy, Department of Energy.

ACTION: Notice of orders.

SUMMARY: The Office of Fossil Energy (FE) of the Department of Energy gives notice that during April 2019, it issued orders granting authority to import and export natural gas, to import and export liquefied natural gas (LNG), and a procedural order. These orders are summarized in the attached appendix and may be found on the FE website at https://www.energy.gov/fe/listing-doefe-authorizationsorders-issued-2019.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on May 23, 2019.
Amy Sweeney,
Director, Division of Natural Gas Regulation.

Appendix

DOE/FE Orders Granting Import/Export Authorizations
4368 | 04/09/19 | 19-36-NG | Comanche Trail Pipeline, LLC | Order 4368 granting blanket authority to import/export natural gas from/to Mexico.
PO | 04/10/19 | 16-144-LNG | Driftwood LNG LLC | Procedural Order Dismissing Industrial Energy Consumers of America's Motion to Intervene and Protest and accepting late-filed comments.
4369 | 04/16/19 | 19-37-LNG | Blue Roads Solutions, LLC | Order 4369 granting blanket authority to import/export LNG from/to Canada/Mexico by truck.
4370 | 04/16/19 | 19-38-NG | Maritimes & Northeast Pipeline, L.L.C | Order 4370 granting blanket authority to import/export natural gas from/to Canada.
4371 | 04/16/19 | 19-39-NG | Excelerate Energy Gas Marketing, Limited Partnership | Order 4371 granting blanket authority to import LNG from various international sources by vessel.
4375 | 04/17/19 | 19-40-NG | El Paso Marketing Company, L.L.C | Order 4375 granting blanket authority to import/export natural gas from/to Canada/Mexico.
4376 | 04/22/19 | 19-48-NG | Omimex Canada, Ltd | Order 4376 granting blanket authority to import/export natural gas from/to Canada.
4377 | 04/28/19 | 19-41-LNG | Ferus Natural Gas Fuels Inc | Order 4377 granting blanket authority to import/export LNG from/to Canada by truck.
4378 | 04/28/19 | 19-42-LNG | Solensa S.A. de C.V | Order 4378 granting blanket authority to export LNG to Mexico by truck.
4379 | 04/28/19 | 19-49-NG | Dominion Energy Fuel Services, Inc | Order 4379 granting blanket authority to import/export natural gas from/to Canada.

[FR Doc. 2019-11158 Filed 5-28-19; 8:45 am]

BILLING CODE 6450-01-P